DEPARTMENT OF ENERGY

Federal Energy Regulatory Commission

[Project No. 2323-206]

TransCanada Hydro Northeast, Inc.; Notice of Application Accepted for Filing, Soliciting Comments, Motions To Intervene, and Protests

Take notice that the following hydroelectric application has been filed with the Commission and is available for public inspection:

a. Type of Application: Request to Amend License Articles 409, 410, 411, and 413.

b. Project No.: 2323-206.

c. Date Filed: March 31, 2015.

d. Applicant: TransCanada Hydro Northeast, Inc. (licensee).

e. Name of Project: Deerfield River Hydroelectric Project.

f. Location: Windham and Bennington counties, Vermont and Franklin and Berkshire counties, Massachusetts.

g. Filed Pursuant to: Federal Power Act, 16 U.S.C. 791(a)-825(r).

h. Applicant Contact: John Ragonese, FERC License Manager, (603) 498-2851, or john_ragonese@transcanada.com.

i. FERC Contact: Alicia Burtner, (202) 502-8038, or alicia.burtner@ferc.gov.

j. Deadline for filing comments, motions to intervene, protests, and recommendations is 30 days from the issuance date of this notice by the Commission.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-2323-206) on any comments, motions, or recommendations filed.

k. Description of Request: The licensee requests the deletion or suspension of the requirements of license Articles 409, 410, 411, and 413 and the associated Atlantic Salmon Radio-Tagging Plan, as approved by the Commission on March 31, 1998. The requirements pertain to monitoring and restoring Atlantic salmon (Salmo salar) in the Connecticut River and its tributaries. Article 409 requires the licensee to construct, operate, and maintain a permanent upstream fish passage facility. Article 410 requires a plan to capture upstream migrating Atlantic salmon below the dam and transport them to river reaches above the dam or to hatchery facilities until permanent passage facilities, are completed. Article 411 requires monitoring of Atlantic salmon smolts through project fish passage facilities, and Article 413 requires an Atlantic Salmon Radio-Tagging Plan. The licensee indicates that the U.S. Fish and Wildlife Service, which had been actively stocking Atlantic salmon in the Connecticut River and its tributaries, has officially withdrawn support for the restoration program due to unsatisfactory results. The licensee indicates that its efforts under Articles 409, 410, 411, and 413 have no feasible chance of success without the U.S. Fish and Wildlife's stocking component.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the variance. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 30, 2015.
Kimberly D. Bose,
Secretary.

[FR Doc. 2015-10574 Filed 5-5-15; 8:45 am]

BILLING CODE 6717-01-P